DEPARTMENT OF TRANSPORTATION

Federal Aviation Administration

Ninth Meeting: RTCA Special Committee 224: Airport Security Access Control Systems

AGENCY: Federal Aviation Administration (FAA), DOT.

ACTION: Notice of RTCA Special Committee 224 meeting: Airport Security Access Control Systems.

SUMMARY: The FAA is issuing this notice to advise the public of a meeting of RTCA Special Committee 224: Airport Security Access Control Systems.

DATES: The meeting will be held October 20, 2011, from 10 a.m. to 4 p.m.

ADDRESSES: The meeting will be held at RTCA, Inc., 1150 18th Street, NW., Suite 910, Washington, DC 20036.

FOR FURTHER INFORMATION CONTACT: RTCA Secretariat, 1150 18th Street, NW., Suite 910, Washington, DC 20036, telephone (202) 833-9339, fax (202) 833-9434, Web site http://www.rtca.org.

SUPPLEMENTARY INFORMATION: Pursuant to section 10(a)(2) of the Federal Advisory Committee Act (Pub. L. 92-463, 5 U.S.C., and Appendix 2), notice is hereby given for a Special Committee 224, Airport Security Access Control Systems (Update to DO-230B):

Agenda

October 20, 2011

• Welcome/Introductions/Administrative Remarks.

• Review/Approve Summary—Eighth Meeting.

• Proposed Structure Overview.

• Sub Section Workgroup Reports.

• Document Structure Finalization Scheduling.

• Time and Place of Next Meeting.

• Any Other Business.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 19, 2011.
Robert L. Bostiga,
Manager, RTCA Advisory Committee.

[FR Doc. 2011-24635 Filed 9-23-11; 8:45 am]

BILLING CODE 4910-13-P